GENERAL SERVICES ADMINISTRATION

Notice of Intent To Prepare an Environmental Impact Statement: Los Angeles, CA

AGENCY: General Services Administration; Pacific Rim Region.

ACTION: Notice of public meeting.

SUMMARY: The General Services Administration, Portfolio Management Division (9PT), intends to prepare an Environmental Impact Statement (EIS) on the following project: New Federal Building at 11000 Wilshire Boulevard, Los Angeles, California.

The Federal Bureau of Investigation (FBI) requires new facilities in the Los Angeles area to consolidate current facilities from various locations, provide facilities with a higher level of security than currently provided in existing spaces, and provide for growth associated with the increase in demand for staff and infrastructure.

DATES: A scoping meeting will be held on May 20, 2004, from 4:30 p.m. to 7:30 p.m. Interested parties should submit written comments on or before May 25, 2004.

ADDRESSES: The meeting will be held in the Cafeteria Building on the federal office complex located at 11000 Wilshire Boulevard, Los Angeles, California.

FOR FURTHER INFORMATION CONTACT: Mr. Javad Soltani, General Services Administration, Public Buildings Service, Portfolio Management Division (9PT), at (415) 522-3493; fax at (415) 522-3215; or e-mail at javad.soltani@gsa.gov.

SUPPLEMENTARY INFORMATION: The Notice of Intent is as follows:

Notice of Intent To Prepare an Environmental Impact Statement

The United States General Services Administration intends to prepare an Environmental Impact Statement (EIS) on the following project: New Federal Building at 11000 Wilshire Boulevard, Los Angeles, California.

Proposed Action

The Federal Bureau of Investigation (FBI) requires new facilities in the Los Angeles area to consolidate current facilities from various locations, provide facilities with a higher level of security than currently provided in existing spaces, and provide for growth associated with the increase in demand for staff and infrastructure on a twenty-year planning horizon. To meet these needs, the United States General Services Administration is planning the construction of a new federal building on the existing 28-acre site of the current Federal office complex at 11000 Wilshire Blvd., Los Angeles, California. The building and adjoining facilities will house the Federal Bureau of Investigation offices and related facilities and that are currently located in the 17-floor Federal office building and garage located on the site. The existing 17-floor federal building will remain on site for the foreseeable future and receive federal agencies that require additional space or will be relocated from other locations in the region that are currently leased. The proposed new Federal facilities will provide approximately 937,000 gross square feet of space plus 1,200 secured parking stalls. It is anticipated that the proposed development will occur in two phases over a 10-year period and ultimately include office space, an automobile/radio maintenance facility, and a parking garage.

Alternatives to the proposed action include:

A. Renovate and Expand Existing Facility Alternative: This alternative would leave the Federal Bureau of Investigation in the current 17-floor building on the 11000 Wilshire Boulevard site and modify the building to the extent possible to meet security requirements and short-term space needs of the Federal Bureau of Investigation. Other current tenants in the building would be required to relocate to other facilities.

B. Lease Build-to-Suit Alternative: This would provide a building for lease to the General Services Administration that is constructed to meet the needs and requirements of the Federal Bureau of Investigation. The building would be located in the northwest area of Los Angeles.

C. No Action Alternative: This would require the operation of the Federal Bureau of Investigation facilities at separate locations in the area and the associated inherent operational inefficiencies. The existing Government facilities will not be sufficient to accommodate future growth and security requirements.

The public is cordially invited to participate in the scoping process. A scoping meeting will be held in the Cafeteria Building on the federal office complex located at 11000 Wilshire Boulevard, Los Angeles, California, on May 20, 2004, from 4:30 p.m. to 7:30 p.m. At the scoping meeting, the public will be requested to identify issues that they believe should be analyzed in the Environmental Impact Statement. The public is invited to submit any written comments to the address below by May 25, 2004.

Dated: April 19, 2004.
Javad Soltani,
Regional Environmental Quality Advisor.

[FR Doc. 04-9314 Filed 4-22-04; 8:45 am]

BILLING CODE 6820-23-P